DEPARTMENT OF COMMERCE

International Trade Administration

Export Trade Certificate of Review

ACTION: Notice of application to amend Certificate.

SUMMARY: The Office of Export Trading Company Affairs (“OETCA”), International Trade Administration, Department of Commerce, has received an application to amend an Export Trade Certificate of Review (“Certificate”). This notice summarizes the proposed amendment and requests comments relevant to whether the Certificate should be issued.

FOR FURTHER INFORMATION CONTACT: Jeffrey Anspacher, Director, Office of Export Trading Company Affairs, International Trade Administration, (202) 482-5131, (this is not a toll free number) or by E-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from state and federal government antitrust actions and from private treble damage antitrust actions for the export conduct specified in the Certificate and carried out in compliance with its terms and conditions. Section 302(b)(1) of the Export Trading Company Act of 1982 and 15 CFR 325.6 (a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked privileged or confidential business information will be deemed to be nonconfidential. An original and five copies, plus two copies of the nonconfidential version, should be submitted no later than 20 days after the date of this notice to: Office of Export Trading Company Affairs, International Trade Administration, Department of Commerce, Room 1104H, Washington DC 20230. Information submitted by any person is exempt from disclosure under the Freedom of Information Act (5 U.S.C. 552). However, nonconfidential versions of the comments will be made available to the applicant if necessary for determining whether or not to issue the certificate. Comments should refer to this application as “Export Trade Certificate of Review, application number 84-17A04.”

The Association for Manufacturing Technology's (“AMT”) original certificate was issued on May 19, 1987 (52 FR 19371, May 22, 1987) and lastly amended on March 1, 2002 (67 FR 12524 , March 19, 2002).

A summary of the application for an amendment follows.

Summary of the Application

Applicant: The Association for Manufacturing Technology (“AMT”), 7901 Westpark Drive, McLean, Virginia 22102-4269.

Contact: Ronald J. Baumgarten, Jr., Legal Counsel, Telephone: (202) 662-5265.

Application No.: 87-17A04.

Date Deemed Submitted: August 26, 2003.

Proposed Amendment: AMT seeks to amend its Certificate to: (1) Add the following companies as new “Members” of the Certificate within the meaning of § 325.2(l) of the Regulations (15 CFR 325.2(l)):

A & A Manufacturing Company, Inc., New Berlin, WI;

Abbott Workholding Products, Manhattan, KS;

Action SuperAbrasive Products, Brimfield, OH;

Acu-Rite, Jamestown; NY;

Adept Technology Inc., Livermore, CA;

Agie Charmilles Group, Charlotte, NC;

Ahaus Tool and Engineering, Inc., Richmond, IN;

Airflow Systems, Inc., Dallas, TX;

Airtronics Gage & Machine Co., Elgin, IL;

Allen-Brady Co./Rockwell Automation, Milwaukee, WI;

Allied Machine & Engineering Corp., Dover, OH;

Aloris Tool Technology Co., Inc., Clifton, NJ;

AltaMAR Laser and Control, Fridley, MN;

Amada America Inc., Buena Park, CA;

Atlas Technologies Inc., Fenton, MI;

ATS Workholding, Inc., Anaheim, CA;

Automation Specialties, Inc., Howell, MI;

Automation Tool Company, Cookeville, TN;

Baublys Control Laser, Orlando, FL;

Beaumont Machine, Inc., Milford, OH;

Better Engineering, Mfg., Inc., Baltimore, MD;

Bock Workholding Inc., Mars, PA;

Bosch Rexroth-Electric Drives & Cntrls, Hoffman Estates, IL;

Brinkman International Group, Inc., Rochester, NY;

Buck Forkardt Inc., Portage, MI;

Carboloy Inc., Detroit, MI;

Cedarberg Industries, Inc., Eagan, MN;

Chick Workholding Solutions, Inc., Warrendale, PA;

Cincinnati Grinding Technologies, Middletown, OH;

CNC Engineering, Inc., Enfield, CT;

Coe Press Equipment Corp., Sterling Heights, MI;

Columbus McKinnon for the activities of its Positech Division, Laurens, IA;

Control Gaging, Inc., Ann Arbor, MI;

CRI, Centerless Rebuilders, Inc., Chesterfield Township, MI;

Curran Manu. Corp. for the activities of its Royal Products Division, Hauppauge, NY;

Cutting Edge Optronics, Inc., Saint Charles, MO;

Cyril Bath Company, Monroe, NC;

Daco Jaw Company, Milwaukee, WI;

Daewoo Heavy Industries, America Corp., West Caldwell, NJ;

Detroit Edge Tool Company, Detroit, MI;

DiManco, Inc.;

Dorian Tool International, East Bernard, TX;

Doringer Cold Saws, Inc., Gardena, CA;

DP Technology Corp./ESPRIT, Camarillo, CA;

DS Technology (USA) Inc., Cincinnati, OH;

Eagle Machine Tools, Inc., Fort Lauderdale, FL;

Eimeldingen Corporation, Indianapolis, IN;

Eitel Presses, Inc., Orwigsburg, PA;

EMAG L.L.C., Farmington Hills, MI;

Enerpac., Milwaukee, WI;

Engis Corporation, Wheeling, IL;

Eriez Magnetics, Erie, PA;

ExxonMobil Lubricants & Petrol Spec Co., Fairfax, VA;

Fagor Automation Corporation, Elk Grove Village, IL;

FANUC Robotics America, Inc., Rochester Hills, MI;

Fred V. Fowler Co., Inc., Newton, MA;

GE Fanuc Automation Americas, Inc., Charlottesville, VA;

Gibbs & Associates, Moorpark, CA;

Giddings & Lewis LLC, Fond Du Lac, WI;

Russell T. Gillman, Inc.—An SKF Co., Grafton, WI;

Gleason Corporation, Rochester, NY;

Govro-Nelson Company, St. Clair, MI;

Gudel Lineartec, Inc., Ann Arbor, MI;

Guhring, Inc., Brookfield, WI;

Hangsterfer's Laboratories, Inc., Mantua, NJ;

Hansford Parts And Products, Macedon, NY;

Heller Machine Tools, Troy, MI;

Helmel Engineering Products, Inc., Niagara Falls, NY;

Hines Industries, Inc., Ann Arbor, MI;

Hoffmann Filter Corporation, Brighton, MI;

Huron Machine Products, Inc., Fort Lauderdale, FL;

INA USA, Corp., Fort Mill, SC;

Inductoheat, Inc., Madison Heights, MI;

Ingersoll Cutting Tool Company, Rockford, IL;

Ingersoll Production Systems, Rockford, IL;

Innovative Products & Equip., Inc., Lowell, MA;

Intelitek, Manchester, NH;

Jensen Fabricating Engineers, Inc., Berlin, CT;

Jet Edge, Saint Michael, MN;

Kalamazoo Machine Tool, Portage, MI;

KAPP Technologies, Boulder, CO;

Kennametal Inc.—World Headquarters, Latrobe, PA;

Komet of America, Inc., Schaumburg, IL;

Koolant Koolers, Inc., Kalamazoo, MI;

KPT/Kaiser Precision Tooling, Inc., Elk Grove Village, IL;

Lexair/Production Dynamics, Lexington, KY;

Littell, Addison, IL;

LNS America, Inc., Cincinnati, OH;

Logansport Matsumoto Co., Inc., Logansport, IN;

Lovejoy Tool Company, Inc., Springfield, VT;

Mahr Federal Inc., Providence, RI;

Maintenance Service Corp., Milwaukee, WI;

Mass Finishing, Inc., Delano, MN;

Mastercam/CNC Software, Inc., Tolland, CT;

Master Chemical Corporation, Perrysburg, OH;

Master Work-Holding, Inc., Morganton, NC;

Mate Precision Tooling, Anoka, MN;

MDSI, Ann Arbor, MI;

Mestek Inc.;

Michigan Custom Machines, Farmington Hills, MI;

Micro Centric Corporation, Plainview, NY;

MIDACO Corp., Elk Grove Village, IL;

M&M Precision Systems Corporation, West Carrollton, OH;

Monsanto Enviro-Chem Systems, Inc., Chesterfield, MO;

Nook Industries, Inc., Cleveland, OH;

Northfield Precision Instrument Corp., Island Park, NY;

NorthTech Workholding, Inc., Schaumburg, IL;

Norwalk Innovation, Inc., Shelton, CT;

Novellus Systems, Inc., Chandler, AZ;

Novi Precision Products, Inc., Brighton, MI;

NSK Precision America Inc., Bloomingdale, IL;

Nuvonyx Inc., Bridgeton, MO;

Penn United Technology, Inc., Saxonburg, PA;

Phillips Corporation, Columbia, MD;

PIA Group, Cincinnati, OH;

Pines Manufacturing, Westlake, OH;

Polymer Sealing Solutions for the activities of its Seals Division, Fort Wayne, IN;

Positrol, Inc., Cincinnati, OH;

PowerHold Incorporated, Middlefield, CT;

P R C Laser, Landing, NJ;

Precision Industries Corporation, Elkhart, IN;

Preco Laser Systems, LLC, Somerset, WI;

Premier Tooling Systems, Grand Blanc, MI;

Pressure Island, Davidson, NC;

PRIMA North America, Inc., Chicopee, MA;

QPAC-Quality Products & Concepts, Lansing, MI;

Quality Vision International Inc., Rochester, NY;

Quantronix Corporation, East Setauket, NY;

Ranshoff, Inc., Cincinnati, OH;

Raycon Corporation, Ann Arbor, MI;

Royal Machine & Tool Corporation, Berlin, CT;

Saint-Gobain Abrasives, Inc., Worcester, MA;

W.J. Savage Co. for the activities of its Savage Saws Division, Knoxville, TN;

Schunk, Inc., Morrisville, NC;

Scientific Technologies, Inc., Fremont, CA;

Sescoi USA, Inc., Southfield, MI;

SGS Tool Company, Munroe Falls, OH;

Siemens Energy & Automation, Inc., Elk Grove Village, IL;

SMW Systems, Inc., Santa Fe Springs, CA;

Sortimat Technology L.P., Schaumburg, IL;

Southwestern Industries, Inc., Rancho Dominguez, CA;

SSD Control Technology, Inc., South Bend, IN;

The L.S. Starrett Co., Athol, MA;

The Precise Corporation, Racine, WI;

Tyler Machinery Co., Inc., for the activities of its MBD Machines Div., Warsaw, IN;

Stellram, La Vergne, TN;

S-T Industries, Inc., St. James, MN;

Suburban Tool, Inc., Auburn Hills, MI;

Suhner Manufacturing Inc., Rome, GA;

Systems Engineering Company Inc., Milwaukee, WI;

T2K—Tooling 2000, Redmond, WA;

Telesis Technologies, Inc., Circleville, OH;

The Timken Company, Torrington, CT;

Thomson Industries, Inc., Port Washington, NY;

Tri-Cam, Inc., Rockford, IL;

Tri-Turn Technologies, Inc., Euclid, OH;

Troyke Manufacturing Co., Cincinnati, OH;

TRU TECH Systems, Inc., Mount Clemens, MI;

Ultra-Grip International, Inc., Walled Lake, MI;

Unist, Inc., Grand Rapids, MI;

Vektek, Inc., Elwood, KS;

Vermont Machine Tool Corp., Springfield, VT;

Vibro/Dynamics Corporation, Broadview, IL;

VX Corporation, Palm Bay, FL;

O. S. Walker Company, Worcester, MA;

Walter Waukesha, Inc., Waukesha, WI

(2) Delete the following companies as “Members” of the Certificate:

Alliance Automation Systems

ATS Carolina

ATS Michigan

ATS Ohio

ATS Oregon

ATS Southwest

BHS-Torin Inc.

Blue Valley Machine and Manufacturing Co.

Bridgeport Machines, Inc.

Cargill Detroit Corp.

Cone-Blanchard Machine Co.

Centro-Metalcut Inc.

Dustvent Inc.

Dynetics Corporation

Eagle Eaton Leonard Inc.

Edgetek Machine Corp.

Evana Automation Inc.

E.W. Bliss Company

Gallmeyer & Livingston Company

Goss & De Leeuw Machine Company, The

Grav-I-Flo Corp.

Griffin Automation

Hansvedt EDM Division

Hegenscheidt Corporation

Heim Corp.

Herman Williams Company, Inc.

Hertlein Special Tool Co., Inc.

Hitachi Seiki USA

HR Krueger Machine Tool Inc.

Hybco Products, Inc.

Hyd-Mech Inc.

Komatus Cutting Technologies

Manufacturing Technology, Inc. (California)

Masco Machine, Inc.

Morey Machinery Design & Manufacturing (used to be Morey Machinery Mfg. Corp.)

Motch Corporation

Onsrud Machine Corp.

P S Group

R & B Machine Tool Co.

Redin Corporation

Robert Bosch Corporation for the activities of its Surf/Tran Division

South Bend Lathe Corp.

Taurus Products, Inc.

TCE Corporation

The National Acme Company

Wesel Manufacturing Co.

Wisconsin Machine Tool Corp.

Xermac, Inc.

(3) Change the listings of the existing members as follows:

“ABB Flexible Automation Systems, Inc.” to “ABB Inc.-Mfg & Consumer Industries Grp”; Advanced Assembly Automation, Inc.” to “DT Industries”; “The Beckwood Corporation” to “Beckwood Press Company”; “The Bodine Corporation” to “Bodine Assembly and Test Systems”; “Broaching Machine Specialties” to “Broaching Machine Specialties Co.”; “Brown & Sharpe Manufacturing Co.” to “Brown & Sharpe, Inc.”; “Capco, Inc.” to “Capco Machinery Systems, Inc.”; “Chas. G Allen Co.” to “Chas. G Allen Co., Inc.”; “The Cincinnati Gilbert Mach. Tool Co. L.L.C.” to “The Cincinnati Gilbert Mach. Tool Co.”; “Crankshaft Machine Group” to “CMG”; “Dake” to “Dake—JSJ Corporation;” “Denford Machine Tooks, USA, Inc.” to “Denford Inc.”; “DT Industries, Inc.” to “DT Industries”; “ESAB L-TEC Cutting Systems” to “ESAB Cutting Systems”; “Fayscott Co.” to “Fayscott LLC”; “The Gem City Engineering Co.” to “GCE Technologies”; “Hess Engineering, Inc.” to “Hess Industries, Inc.”; “Industrial Metal Products Corp.” to “IMPCO Machine Tools”; “Kingsbury Machine Tool Corporation” to “Kingsbury Corporation”; “Kleer-Flo Company” to “KLEENTEC/KLEERFLO”; “Lapmaster International” to “Lapmaster International—US”; “Livernois Engineering” to “Outokumpu Livernois Engineering LLC”; “Milacron, Inc.” to “Milicron, Inc.—Headquarters”; “Miyano Machinery USA Inc.” to “Miyano Machinery Inc.”; “Moline Tool Company, Inc.” to “Moline Tool”; “Murata Wiedemann, Inc.” to “Murata Machinery USA, Inc.-Machine Tools”; “National Broach & Machine Co.” to “Nachi Machining Technology Company”; “Newcor, Inc.” to “Newcor Bay City”; “New Nine Inc., d/b/a GWI Engineering” to “GWI Engineering, Inc.”; “Okuma, Inc.” to “Okuma America Corporation (OAC)”; “RMT Technologies” to “RMT Technology”; “Seneca Falls Technology Group” to “Seneca Falls Tech Grp-Machine Blders Division”; “SMS Group Inc.” to “Saginaw Machine Systems”; “Strippit, Inc.” to “Strippit/LVD”; “UNOVA Inc.” to “UNOVA Industrial Automation Systems”; Wilton Machinery” to “WMH Tool Group”.

Dated: September 5, 2003.
Jeffrey Anspacher,
Director, Office of Export Trading Company Affairs.

[FR Doc. 03-23086 Filed 9-9-03; 8:45 am]

BILLING CODE 3510-DR-P